DEPARTMENT OF COMMERCE

National Oceanic and Atmospheric Administration

[I.D. 050500E]

Marine Mammals; File No. 909-1465-00

AGENCY: National Marine Fisheries Service (NMFS), National Oceanic and Atmospheric Administration (NOAA), Commerce.

ACTION: Receipt of application for amendment.

SUMMARY: Notice is hereby given that Daniel Engelhaupt, Biological Sciences Department, University of Durham, Science Laboratories, South Road, Durham, DH1 3LE, England, has requested an amendment to Scientific Research Permit No. 909-1465-00.

DATES: Written or telefaxed comments must be received on or before July 14, 2000.

ADDRESSES: The amendment request and related documents are available for review upon written request or by appointment in the following office(s):

Permits and Documentation Division, Office of Protected Resources, NMFS, 1315 East-West Highway, Room 13705, Silver Spring, MD 20910 (301) 713-2289);

Regional Administrator, Southeast Region, NMFS, 9721 Executive Center Drive North, St. Petersburg, Florida 33702-2432, (727) 570-5301.

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Jill Lewandowski or Jeannie Drevenak, (301) 713-2289.

SUPPLEMENTARY INFORMATION: The subject amendment to Permit No. 909-1465-00, issued on June 14, 1999 (63 FR 39272) is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226). Permit No. 909-1465-00 authorizes the applicant to conduct photo-identification and skin biopsy sampling activities on several species of cetaceans, including the sperm whale (Physeter catodon), in the Gulf of Mexico over a five year period. Samples collected via biopsy sampling, as well as extant samples of stored material obtained from National Marine Fisheries Services' Southeast Regions, may be exported to England for genetic analyses. The authority of this permit expires on April 30, 2004.

The applicant is now requesting authorization for the following: (1) Extend the study for sperm whales only to waters of the southern Gulf of Mexico, Caribbean Sea and mid-western Atlantic, allowing for documentation of genetic variability of additional sperm whale populations thought to be residents in the northern Gulf of Mexico; (2) biopsy females with calves present as long as the calves are at least 4.5 meters in length; (3) expand the draw weight of the crossbow used for biopsy from 35-45 kg to a maximum of 150 kg; (4) increase sperm whale takes by an additional 250 individuals by biopsy and 750 individuals by incidental harassment; and (5) export all collected samples, including those from the increased geographic area, to England for genetic analysis.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 8, 2000.
Ann D. Terbush,
Chief, Permits and Documentation Division, Office of Protected Resources, National Marine Fisheries Service.

[FR Doc. 00-15020 Filed 6-13-00; 8:45 am]

BILLING CODE 3510-22-F